DEPARTMENT OF COMMERCE

National Oceanic and Atmospheric Administration

RIN: 0648-XF75

Caribbean Fishery Management Council; Public Meeting

AGENCY: National Marine Fisheries Service (NMFS), National Oceanic and Atmospheric Administration (NOAA), Commerce.

ACTION: Notice of Navassa Island Workshop.

SUMMARY: The Caribbean Fishery Management Council (CFMC) will hold a Navassa Island Workshop.

DATES: The Navassa Island Workshop will be held on March 24-25, 2008, from 9 a.m. to 5 p.m., approximately, both days.

ADDRESSES: The Workshop will be held at the Hilton Ponce Gulf and Casino, 1150 Caribe Avenue, Ponce, Puerto Rico 00716.

FOR FURTHER INFORMATION CONTACT: Caribbean Fishery Management Council, 268 Munoz Rivera Avenue, Suite 1108, San Juan, Puerto Rico 00918, telephone: (787) 766-5926.

SUPPLEMENTARY INFORMATION: The Navassa Island Workshop agenda is as follows:

Monday, March 24, 2008, 9 a.m. - 5 p.m.

•Call to Order

•Welcome - Eugenio Pineiro

•Introduction - Miguel Rolon

•Adoption of Agenda

•DOS - Legal Status of Navassa Island

•Management Aspects of Navassa Island - DOI Perspective

•Magnuson-Stevens Reauthorization Act (MSRA) and Navassa Island - NMFS/CFMC

•Fishery Management Plan (FMP) Outline/Appointment of Navassa Island Plan Development Team (NIPDT)

-Scoping Meetings

-Literature Review

-Fishery/Biology Habitat (EFH)

-Fishery Socio-Economy

Tuesday, March 25, 2008, 9 a.m. - 5 p.m.

•FMP Outline/Appointment NIPDT (Cont.)

-Management Alternatives

-Enforcement Considerations

-Other Applicable Laws, e.g., ESA/EIS

-International Considerations Re: TAC and Foreign Allocations

-Consideration of Candidates for NIPDT

-Data and Research Needs

-Comments from Non-Governmental Organizations (NGOs) and General Public

•Other Business

Special Accommodations

The meeting is physically accessible to people with disabilities. For more information or request for sign language interpretation and/other auxiliary aids, please contact Mr. Miguel A. Rolon, Executive Director, Caribbean Fishery Management Council, 268 Munoz Rivera Avenue, Suite 1108, San Juan, Puerto Rico 00918, telephone: (787) 766-5926, at least 5 days prior to the meeting date.

Dated: February 19, 2008.
Tracey L. Thompson,
Acting Director, Office of Sustainable Fisheries, National Marine Fisheries Service.

[FR Doc. E8-3299 Filed 2-21-08; 8:45 am]

BILLING CODE 3510-22-S